DEPARTMENT OF LABOR

Employment and Training Administration

[TA-W-81,846]

Goodman Networks, Inc., Core Network Engineering (Deployment Engineering) Division Including Workers in the Core Network Engineering (Deployment Engineering) Division in Alpharetta, GA, Hunt Valley, MD, Naperville, IL, and St. Louis, MO, Who Report to Plano, TX; Notice of Revised Determination on Reconsideration

On December 12, 2012, the Department of Labor issued a Notice of Affirmative Determination Regarding Application for Reconsideration applicable to workers and former workers of Goodman Networks, Inc., Core Network Engineering (Deployment Engineering) Division, including workers in the Core Network Engineering (Deployment Engineering) Division in Alpharetta, Georgia, Hunt Valley, Maryland, Naperville, Illinois, and St. Louis, Missouri, who report to Plano, Texas (subject firm). The suffixes used in the initial determination to identify the workers have been removed; however, the subject worker group remains the same.

The workers are engaged in activities related to the supply of services of installation specification writing and maintenance customer record drawings for the installation of telecommunication equipment. The workers are not separately identifiable function or service supplied. The worker group does not include any leased workers.

Section 222(a)(1) has been met because a significant number or proportion of the workers in the subject firm have become totally or partially separated, or are threatened with such separation.

Section 222(a)(2)(A)(i) has been met because subject firm sales of installation specification writing and maintenance customer record drawings services have decreased absolutely.

Section 222(a)(2)(A)(ii) has been met because customer imports of services like or directly competitive with installation specification writing and maintenance customer record drawings services supplied by the subject firm have increased during the relevant period.

Finally, Section 222(a)(2)(A)(iii) has been met because increased customer imports contributed importantly to the worker group separations and sales declines at the subject firm.

Conclusion

After careful review of the additional facts obtained during the reconsideration investigation, I determine that workers of Goodman Networks, Inc., Core Network Engineering (Deployment Engineering) Division, including workers in the Core Network Engineering (Deployment Engineering) Division in Alpharetta, Georgia, Hunt Valley, Maryland, Naperville, Illinois, and St. Louis, Missouri, who report to Plano, Texas, who were engaged in employment related to the supply of services for installation specification writing and maintenance customer record drawings for the installation of telecommunication equipment, meet the worker group certification criteria under Section 222(a) of the Act, 19 U.S.C. 2272(a). In accordance with Section 223 of the Act, 19 U.S.C. 2273, I make the following certification:

All workers Goodman Networks, Inc., Core Network Engineering (Deployment Engineering) Division, including workers in the Core Network Engineering (Deployment Engineering) Division in Alpharetta, Georgia, Hunt Valley, Maryland, Naperville, Illinois, and St. Louis, Missouri, who report to Plano, Texas who became totally or partially separated from employment on or after July 31, 2011, through two years from the date of certification, and all workers in the group threatened with total or partial separation from employment on the date of certification through two years from the date of certification, are eligible to apply for adjustment assistance under Chapter 2 of Title II of the Trade Act of 1974, as amended.

Signed at Washington, DC, this 8th day of February, 2013.
Del Min Amy Chen,
Certifying Officer, Office of Trade Adjustment Assistance.

[FR Doc. 2013-04025 Filed 2-21-13; 8:45 am]

BILLING CODE 4510-FN-P